DEPARTMENT OF HEALTH AND HUMAN SERVICES

Health Resources and Services Administration

Meeting on the Advisory Commission on Childhood Vaccines; Correction

AGENCY: Health Resources and Services Administration (HRSA), Department of Health and Human Services (HHS).

ACTION: Notice; correction.

SUMMARY: The original Federal Register Notice announcing the December 2020 Advisory Commission on Childhood Vaccines (ACCV) meeting indicated that this meeting would be held on December 3, 2020, and December 4, 2020. This meeting is not being conducted over two days, and instead will only take place on December 3, 2020.

FOR FURTHER INFORMATION CONTACT: Annie Herzog, Program Analyst, Division of Injury Compensation Programs (DICP), HRSA, in one of three ways: (1) Send a request to the following address: Annie Herzog, Program Analyst, DICP, HRSA, 5600 Fishers Lane, 08N186B, Rockville, Maryland 20857; (2) call (301) 443-6593; or (3) send an email to ACCV@hrsa.gov.

SUPPLEMENTARY INFORMATION: The ACCV will hold a public meeting on December 3, 2020, at 10:00 a.m. Eastern Time. The meeting will be held via Adobe Connect and telephone conference. The public can join the meeting by:

1. (Audio Portion) Calling the conference phone number 888-790-1734 and providing the following information:

Leader Name: Ms. Tamara Overby.

Passcode: 4177683.

2. (Visual Portion) Connecting to the ACCV Adobe Connect Meeting using the following URL: https://hrsa.connectsolutions.com/accv/. Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview.

Meeting times could change. For the latest information regarding the meeting, including start time and the agenda, please access the ACCV website: http://www.hrsa.gov/advisorycommittees/childhoodvaccines/index.html.

This meeting will only take place on December 3, 2020, and is not being conducted over 2 days (December 3-4, 2020), as stated previously in Federal Register notice 2019-28294 (85 FR 112, published on January 2, 2020, page 112-113).

Maria G. Button,
Director, Executive Secretariat.

[FR Doc. 2020-22209 Filed 10-7-20; 8:45 am]

BILLING CODE 4165-15-P